ENVIRONMENTAL PROTECTION AGENCY
40 CFR Parts 260 and 261
[RCRA—2003-0004; FRL-7615-4]
RIN 2050-AE51
Hazardous Waste Management System: Identification and Listing of Hazardous Waste: Conditional Exclusions From Hazardous Waste and Solid Waste for Solvent-Contaminated Industrial Wipes; Extension of Comment Period

AGENCY:
Environmental Protection Agency.

ACTION:
Proposed rule; extension of comment period.

SUMMARY:

The U.S. Environmental Protection Agency (EPA) is extending the comment period for the proposed rule entitled “Proposed Conditional Exclusions from Hazardous and Solid Waste for Solvent Contaminated Industrial Wipes,” which appeared in the Federal Register on November 20, 2003 (68 FR 65586). The public comment period for this proposed rule was to end on February 18, 2004. The purpose of this notice is to extend the comment period to end on March 19, 2004.

DATES:
EPA will accept public comments on this proposed regulation until March 19, 2004. Comments submitted after this date will be marked “late” and may not be considered.

ADDRESSES:

Comments may be submitted by mail to: OSWER Docket, Environmental Protection Agency, Mailcode: 5305T, 1200 Pennsylvania Avenue, NW., Washington, DC 20460, Attention Docket ID No. RCRA-2003-0004. Comments may also be submitted electronically, or through hand delivery/courier; follow the detailed instructions as provided below in the SUPPLEMENTARY INFORMATION section of this document.

FOR FURTHER INFORMATION CONTACT:

For general information on the proposed regulation, contact the RCRA Call Center at (800) 424-9346 or TDD (800) 553-7672 (hearing impaired). In the Washington, DC, metropolitan area, call (703) 412-9810 or TDD (703) 412-3323. For more detailed information on specific aspects of this rulemaking, contact Kathy Blanton at (703) 605-0761 (blanton.katherine@epa.gov).

SUPPLEMENTARY INFORMATION:

The proposed rule that is the subject of this notice, and which was published in the Federal Register on November 20, 2003 (68 FR 65586), proposed a conditional exclusion from the definition of solid waste for industrial wipes that are contaminated with solvent and that are sent to laundries or dry cleaners for cleaning and reuse. It also proposed a conditional exclusion from the definition of hazardous waste for industrial wipes that are contaminated with solvent and are sent to disposal.
The comment period for the proposed rule was scheduled to end on February 18, 2004. However, a public commenter (the Utilities Solid Waste Activities Group) has requested that EPA extend the comment period, noting that it is submitting comments on several other EPA rulemaking proposals with comment periods ending close to that date. EPA believes this request is reasonable. EPA also notes that this rule is not subject to any statutory or judicial deadlines. We are therefore extending the comment period for this proposal until March 19, 2004.
How and to Whom Do I Submit Comments?
You may submit comments electronically, by mail, or through hand delivery/courier. To ensure proper receipt by EPA, identify the appropriate docket identification number in the subject line on the first page of your comment. Please ensure that your comments are submitted within the specified comment period. Comments received after the close of the comment period will be marked “late.” EPA is not required to consider these late comments.
Electronically
If you submit an electronic comment as prescribed below, EPA recommends that you include your name, mailing address, and an e-mail address or other contact information in the body of your comment. Also include this contact information on the outside of any disk or CD-ROM you submit, and in any cover letter accompanying the disk or CD-ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

Your use of EPA's electronic public docket to submit comments to EPA electronically is EPA's preferred method for receiving comments. Go directly to EPA Dockets at http://www.epa.gov/edocket, and follow the online instructions for submitting comments. To access EPA's electronic public docket from the EPA Internet Home Page, select “Information Sources,” “Dockets,” and “EPA Dockets.” Once in the system, select “search,” and then key in Docket ID No. RCRA-2003-0004. The system is an “anonymous access” system, which means EPA will not know your identity, e-mail address, or other contact information unless you provide it in the body of your comment.
Comments may be sent by electronic mail (e-mail) to rcra-docket@epa.gov, Attention Docket ID No. RCRA-2003-0004. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.
You may submit comments on a disk or CD-ROM that you mail to the mailing address identified in the following paragraph. These electronic submissions will be accepted in WordPerfect or ASCII file format. Avoid the use of special characters and any form of encryption.
By Mail
Send your comments to: OSWER Docket, EPA Docket Center, Mailcode: 5305T, Environmental Protection Agency, 1200 Pennsylvania Avenue, NW., 20460, Attention Docket ID Number RCRA-2003-0004.
By Hand Delivery or Courier
Deliver your comments to: OSWER Docket, EPA West Building, Room B102, 1301 Constitution Avenue, NW., Washington, DC., Attention Docket ID No. RCRA-2003-0004. Such deliveries are only accepted during the Docket's normal hours of operation (8:30 a.m. to 4:30 p.m. Monday through Friday, excluding legal holidays).

Dated: January 22, 2004.
Robert Springer,
Director, Office of Solid Waste.

[FR Doc. 04-1972 Filed 1-29-04; 8:45 am]
BILLING CODE 6560-50-P